DEPARTMENT OF LABOR

Employment and Training Administration

[TA-W-61,265]

O'Bryan Brothers, Inc., Leon, IA; Notice of Revised Determination on Reconsideration

By application of April 27, 2007, petitioners requested administrative reconsideration regarding the Department's Negative Determination Regarding Eligibility to Apply for Worker Adjustment Assistance, applicable to the workers of the subject firm.

The initial investigation resulted in a negative determination issued on April 13, 2007, was based on the finding that the petitioning workers did not produce an article within the meaning of Section 222 of the Act. The denial notice was published in the Federal Register on April 26, 2007 (72 FR 20873).

To support the request for reconsideration, petitioners supplied additional information regarding production at the subject facility and a shift in production to Mexico.

Upon further contact with the subject firm's company official, it was revealed that the workers also produced marker patterns in 2006 and January through April of 2007.

During a detailed investigation on reconsideration, it was revealed that the subject firm shifted sewing functions and production of marker patterns to Mexico during the relevant period and that this shift contributed importantly to layoffs at the subject firm.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to Mexico of articles that are like or directly competitive with those produced by the subject firm or subdivision. In accordance with the provisions of the Act, I make the following certification:

All workers of O'Bryan Brothers, Inc., Leon, Iowa, who became totally or partially separated from employment on or after April 6, 2006 through two years from the date of this certification, are eligible to apply for adjustment assistance under Section 223 of the Trade Act of 1974, and are eligible to apply for alternative trade adjustment assistance under Section 246 of the Trade Act of 1974.

Signed in Washington, DC this 16th day of May 2007.
Elliott S. Kushner,
Certifying Officer, Division of Trade Adjustment Assistance.

[FR Doc. E7-10013 Filed 5-23-07; 8:45 am]

BILLING CODE 4510-FN-P